DEPARTMENT OF LABOR

Employment and Training Administration

20 CFR Part 655

RIN 1205-AB23

Labor Certification and Petition Process for the Temporary Employment of Nonimmigrant Aliens in Agriculture in the United States; Delegation of Authority To Adjudicate Petitions; Deferral of Effective Date

AGENCY: Employment and Training Administration, Labor.

ACTION: Interim final rule with request for comments ; deferral of effective date of final rule.

SUMMARY: The Immigration and Naturalization Service (INS) has informed the Department of Labor (DOL or Department) that it intends to delay INS’ delegation to DOL of authority to adjudicate petitions for the temporary employment of nonimmigrant aliens in agriculture in the United States. Additionally, DOL has the need for additional time to effectively implement the new procedures and to train and brief members of the affected public and the employment and training community in the new procedures. Therefore, the Department has determined to defer the effective date of the Final Rule promulgated at 65 FR 43538 (July 13, 2000). Comments are being requested on this action. The rule being deferred amends the Employment and Training Administration (ETA) regulations to implement the delegation of authority to adjudicate petitions for temporary nonimmigrant agricultural workers (H-2A's) from the INS to the Department. A companion Proposed Rule setting forth the fee structure and consolidated form was published at 65 FR 43545 (July 13, 2000). The extended comment period on the Proposed Rule has ended and DOL continues to review the comments.

DATES:

Effective Date: The effective date of the final rule in FR Doc. 00-17641, published at 65 FR 43538 (July 13, 2000), is deferred from November 13, 2000, until October 1, 2001.

Comments: Comments are invited on the deferral of the effective date. Submit comments on or before January 12, 2001.

ADDRESSES: Send comments to Assistant Secretary of Labor for Employment and Training, Attention: Division of Foreign Labor Certifications, Employment and Training Administration, 200 Constitution Avenue, NW., Room N-4456, Washington, DC 20210.

FOR FURTHER INFORMATION CONTACT: Denis M. Gruskin, Senior Specialist, Division of Foreign Labor Certifications, Employment and Training Administration, 200 Constitution Avenue, NW., Room N-4456, Washington, DC 20210. Telephone: (202) 693-2953 (this is not a toll-free number).

SUPPLEMENTARY INFORMATION: The Department of Labor (DOL or Department) published a final rule in this rulemaking in the Federal Register on 65 FR 43538 (July 13, 2000), with an effective date of November 13, 2000.

It is DOL's understanding that INS has or will publish a rule delaying the effective date of that agency's delegation of authority to DOL, which would defer DOL's legal authority to exercise INS” role with respect to H-2A visas.

In addition, the Department found it impracticable to engage in adequate training of federal and State staff and briefing of stakeholders and other members of the public on the new system. This can be accomplished by delaying the effective date of the Final Rule.

DOL has determined to defer the effective date through the end of the current Fiscal Year. This deferral will allow employers, workers, and government personnel time to familiarize themselves with the new system and forms and to resolve concerns over the change. In addition, comments are being sought from interested parties on the deferral of the effective date.

The regulatory certifications set forth in the July 13, 2000, final rule apply to this deferral as well. For the above reasons, the Department finds good cause that prior notice on this rule was impracticable and contrary to the public interest, although in the interest of affording the public as much opportunity as possible to express their views, a post-publication comment period is being offered. 5 U.S.C. 553(b) and (c). The same reasons which justify not having a pre-publication period of notice and comment provide good cause to make this deferral effective upon publication in the Federal Register. 5 U.S.C. 553(d)(3).

Accordingly, the effective date of the final rule in FR Doc. 00-17641, published at 65 FR 43538 (July 13, 2000), is deferred until October 1, 2001.

Signed at Washington, D.C., this 7th day of November, 2000.
Raymond L. Bramucci,
Assistant Secretary of Labor for Employment and Training.

[FR Doc. 00-28897 Filed 11-9-00; 8:45 am]

BILLING CODE 4510-30-P